DEPARTMENT OF LABOR

Employment and Training Administration

[TA-W-55,082]

Chieftain Products, Inc., Owosso, MI; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on July 22, 2004, applicable to workers of Chieftain Products, Inc., Owosso, Michigan. The notice was published in the Federal Register on August 10, 2004 (69 FR 48530).

At the request of the State agency, the Department reviewed the certification for workers of the subject firm. The workers were engaged in the production of (cutting and sewing) automotive interior trim.

Information shows that the Michigan Department of Labor requested Alternative Trade Adjustment Assistance (ATAA) on behalf of the workers of the subject firm but that request was not addressed in the decision document.

Information obtained from the company states that a significant number of workers of the subject firm are age 50 or over, workers have skills that are not easily transferable, and conditions in the industry are adverse. Review of this information shows that all eligibility criteria under Section 246 of the Trade Act of 1974 (26 U.S.C. 2813), as amended have been met. Accordingly, the Department is amending the certification to reflect its finding.

The amended notice applicable to TA-W-55,082 is hereby issued as follows:

”All workers of Chieftain Products, Inc., Owosso, Michigan (TA-W-55,082), who became totally or partially separated from employment on or after June 14, 2003, through July 22, 2006, are eligible to apply for adjustment assistance under Section 223 of the Trade Act of 1974 and are also eligible to apply for Alternative Trade Adjustment Assistance under Section 246 of the Trade Act of 1974.”

Signed at Washington, DC, this 21st day of September, 2004.
Richard Church,
Certifying Officer, Division of Trade Adjustment Assistance.

[FR Doc. E4-2550 Filed 10-7-04; 8:45 am]

BILLING CODE 4510-30-P